DEPARTMENT OF THE TREASURY

Departmental Offices; Privacy Act of 1974, as Amended

AGENCY: Departmental Offices, Treasury.

ACTION: Notice of Proposed Privacy Act System of Records.

SUMMARY: In accordance with the Privacy Act of 1974, as amended, the Departmental Offices, U.S. Department of the Treasury (“Treasury”) gives notice of the establishment of a Privacy Act System of Records.

DATES: Comments must be received no later than February 9, 2011. The new system of records will be effective February 9, 2011 unless the comments received result in a contrary determination.

ADDRESSES: Comments should be sent to Claire Stapleton, Consumer Financial Protection Bureau Implementation Team, 1801 L Street, NW., Washington, DC 20036. Comments will be made available for inspection upon written request. Treasury will make such comments available for public inspection and copying in Treasury's Library, Room 1428, Main Treasury Building, 1500 Pennsylvania Avenue, NW., Washington, DC 20220, on official business days between the hours of 10 a.m. and 5 p.m. Eastern Time. You can make an appointment to inspect comments by telephoning (202) 622-0990. All comments, including attachments and other supporting materials, will become part of the public record and subject to public disclosure. You should submit only information that you wish to make available publicly.

FOR FURTHER INFORMATION CONTACT: Claire Stapleton, Consumer Financial Protection Bureau Implementation Team, 1801 L. Street, NW., Washington, DC 20036, (202) 435-7220.

SUPPLEMENTARY INFORMATION: The Dodd-Frank Wall Street Reform and Consumer Protection Act (“Act”), Public Law 111-203, Title X, established the Consumer Financial Protection Bureau (CFPB). Once fully operational, CFPB will administer, enforce and implement Federal consumer financial protection laws, and, among other powers, will have authority to protect consumers from unfair, deceptive, and abusive practices when obtaining consumer financial products or services. The Act grants Treasury certain “interim authority” to help stand up the agency. The CFPB implementation team, currently within Treasury, will maintain the records covered by this notice.

The new systems of records described in this notice, Treasury/DO.315—CFPB Implementation Team Consumer Inquiry and Complaint Database, will be used to collect, respond to, and refer consumer inquiries and complaints concerning consumer financial products and services. A description of the new system of records follows this Notice.

The report of a new system of records has been submitted to the Committee on Oversight and Government Reform of the House of Representatives, the Committee on Homeland Security and Governmental Affairs of the Senate, and the Office of Management and Budget, pursuant to Appendix I to OMB Circular A-130, “Federal Agency Responsibilities for Maintaining Records About Individuals,” dated November 30, 2000, and the Privacy Act, 5 U.S.C. 552a(r).

The system of records entitled, “Treasury/DO.315—CFPB Implementation Team Consumer Inquiry and Complaint Database” is published in its entirely below.

Dated: December 27, 2010.
Veronica Marco,
Acting Deputy Assistant Secretary for Privacy, Transparency, and Records.

TREASURY/DO .315

System Name:

CFPB Implementation Team Consumer Inquiry and Complaint Database.

System Location:

Consumer Financial Protection Bureau Implementation Team, 1801 L Street, NW., Washington, DC 20036.

Categories of individuals covered by the system:

Individuals covered by this system are individuals who submit complaints or inquiries to the CFPB Implementation Team (on their own or others' behalf); individuals on whose behalf complaints or inquiries are submitted by others (such as attorneys, members of Congress, third party advocates, and/or other governmental organizations); and individuals about whom complaints or inquiries have been received by prudential regulators, the Federal Trade Commission, other Federal agencies, and State agencies and then shared with the CFPB Implementation Team. The term “prudential regulators” refers to any Federal banking agency, as that term is defined in section 3 of the Federal Deposit Insurance Act, and the National Credit Union Administration. Information collected regarding consumer products and services is subject to the Privacy Act only to the extent that it concerns individuals; information pertaining to corporations and other business entities and organizations is not subject to the Privacy Act.

Categories of records in the system:

Records in the system may contain: (1) Correspondence or other information received from or made by complainants, consumers, or other individuals or entities; (2) information from the entity or individual referring the inquiry or complaint; (3) records created of verbal communications by or with complainants or other individuals; (4) information regarding third party advocates or others who submit complaints or inquiries on another's behalf; (5) information identifying the entity that is subject to the complaint or inquiry; (6) communication with or by the entity that is subject to the complaint or inquiry; (7) unique identifiers, codes, and descriptors categorizing each complaint or inquiry file; (8) information about how complaints were responded to or referred; (9) records used to respond to or refer complaints, including information in the CFPB Implementation Team's other systems of records; and (10) identifiable information regarding both the individual who is making the inquiry or complaint, and the individual on whose behalf such inquiry or complaint is made, including name, social security number, account numbers, address, phone number, e-mail address, date of birth.

Authority for maintenance of the system:

Pub. L. 111-203, Title X, Section 1066, codified at 12 U.S.C. 5586.

Purpose(s):

The information in the system is being collected to enable the CFPB Implementation Team to collect, respond to, and refer complaints or inquiries regarding consumer financial products or services. The system serves as a record of the complaint or inquiry, and is used for collecting complaint or inquiry data; responding to or referring the complaint or inquiry; aggregating data that will be used to inform other functions of the CFPB Implementation Team and, as appropriate, other agencies and/or the public; and preparing reports as required by law. This system consists of complaints or inquiries received by the CFPB Implementation Team or other entities and information concerning responses to or referrals of these complaints or inquiries, as appropriate.

Routine uses of records maintained in the system, including categories of users and the purposes of such uses:

These records may be disclosed to:

(1) An entity that is the subject of the complaint or inquiry;

(2) A court, magistrate, or administrative tribunal in the course of presenting evidence, including disclosures to opposing counsel or witnesses in the course of civil discovery, litigation, or settlement negotiations;

(3) A court, magistrate, or administrative tribunal pursuant to an order of a court of competent jurisdiction, where relevant or potentially relevant to a proceeding, or in connection with criminal law proceedings;

(4) Third parties to the extent necessary to obtain information needed for a response to or referral of a complaint or inquiry;

(5) Appropriate law enforcement agencies or authorities in connection with the investigation and/or prosecution of alleged civil, criminal, and administrative violations;

(6) A congressional office in response to an inquiry made at the request of the individual to whom the record pertains;

(7) The appropriate governmental, Tribal, self-regulatory or professional organizations if that organization has jurisdiction over the subject matter of the complaint or inquiry, or over the entity that is the subject of the complaint or inquiry;

(8) Another Federal agency to (a) permit a decision as to access, amendment or correction of records to be made in consultation with or by that agency, or (b) verify the identity of an individual or the accuracy of information submitted by an individual who has requested access to or amendment or correction of records;

(9) Other Federal and nonfederal governmental supervisory or regulatory authorities when the subject matter is within such other agency's jurisdiction;

(10) The U.S. Department of Justice (“DOJ”) for its use in providing legal advice to the Treasury or in representing the Treasury in a proceeding before a court, adjudicative body, or other administrative body before which the Treasury is authorized to appear, where the use of such information by the DOJ is deemed by the Treasury to be relevant and necessary to the litigation, and such proceeding names as a party or interests:

(a) The Treasury or any component thereof;

(b) Any employee of the Treasury in his or her official capacity;

(c) Any employee of the Treasury in his or her individual capacity where DOJ has agreed to represent the employee; or

(d) The United States, where the Treasury determines that litigation is likely to affect the Treasury or any of its components.

(11) The National Archives and Records Administration for use in records management inspections;

(12) A contractor or agent who needs to have access to this system of records to perform an assigned activity;

(13) Appropriate agencies, entities, and persons when (a) the Treasury suspects or has confirmed that the security or confidentiality of information in the system of records has been compromised; (b) the Treasury has determined that as a result of the suspected or confirmed compromise there is a risk of harm to economic or property interests, identity theft or fraud, or harm to the security or integrity of this system or other systems or programs (whether maintained by the Treasury or another agency or entity) that rely upon the compromised information; and (c) the disclosure made to such agencies, entities, and persons is reasonably necessary to assist in connection with the Treasury's efforts to respond to the suspected or confirmed compromise and prevent, minimize, or remedy such harm;

(14) Prudential regulators (including without limitation Federal banking agencies and the National Credit Union Administration), the Federal Trade Commission, other Federal agencies, and State agencies, for the purpose of facilitating the activities described in 12 U.S.C. 5493(b)(3)(D) concerning consumer financial products and services complaints;

(15) Government agencies and the public, in the form of analytic and statistical reports, summaries, or extracts in which individual identities are not revealed, in order to provide information about trends and patterns derived from information contained in complaint records; and

(16) Persons determined to be complainants and/or victims, to the extent the Treasury deems necessary, at its discretion, in order to provide such persons with information concerning the progress and/or results of the investigation or case arising from the matters of which they complained and/or of which they were a victim.

Policies and practices for storing, retrieving, accessing, retaining, and dispensing of records in the system:

Storage:

Records maintained in this system are stored electronically and in file folders. Paper copies of individual records are made by the authorized CFPB Implementation Team staff.

Retrievability:

Records are retrievable by a variety of fields including, but not limited to, the individual's name, Social Security number, complaint/inquiry case number, address, account number, transaction number, phone number, date of birth, or by some combination thereof.

Safeguards:

Access to electronic records is restricted to authorized personnel who have been issued non-transferrable access codes and passwords. Other records are maintained in locked file cabinets or rooms with access limited to those personnel whose official duties require access.

Retention and disposal:

Computer and paper records will be maintained indefinitely until a records disposition schedule is approved by the National Archives Records Administration.

System manager(s) and address:

Consumer Financial Protection Bureau Implementation Team, 1801 L Street, NW., Washington, DC 20036.

Notification procedure:

Individuals seeking notification and access to any record contained in this system of records, or seeking to contest its content, may inquire in writing in accordance with instructions appearing at 31 CFR part 1, subpart C, appendix A. Address such requests to: Director, Disclosure Services, Department of Treasury, 1500 Pennsylvania Ave., NW., Washington, DC 20220.

Record access procedures:

See “Notification Procedures” above.

Contesting record procedures:

See “Notification Procedures” above.

Record source categories:

Information in this system is obtained from individuals and entities filing complaints and inquiries, other governmental authorities, and entities that are the subjects of complaints and inquiries.

Exemptions claimed for the system:

None.

[FR Doc. 2011-217 Filed 1-7-11; 8:45 am]

BILLING CODE 4810-25-P